DEPARTMENT OF THE INTERIOR

National Park Service

Cape Cod National Seashore Advisory Commission Two Hundred and Twenty-Eight Meeting; Notice of Meeting

Notice is hereby given in accordance with the Federal Advisory Committee Act (Pub. L. 92-463, 86 Stat. 770 U.S.C. App 1, section 10), that a meeting of the Cape Code National Seashore Advisory Commission will be held on Friday, June 2, 2000.

The Commission was reestablished pursuant to Public Law 87-126 as amended by Public Law 105-280. The purpose of the Commission is to consult with the Secretary of the Interior, or his designee, with respect to matters relating to the development of Cape Code National Seashore, and with respect to carrying out the provisions of sections 4 and 5 of the Act establishing the Seashore.

The Commission members will meet at 1 p.m. at Headquarters, Marconi Station, Wellfleet, Massachusetts for the regular business meeting to discuss the following:

1. Adoption of Agenda

2. Approval of Minutes of Previous Meeting—March 17, 2000

3. Report of Officers

4. Subcommittee Reports

Personal Watercraft Subcommittee

Nickerson Fellowship Committee

5. Superintendent's Report:

Highlands Center

News from Washington

Fort Hill burn results

Penniman House renovations

Horseshoe Crabs

USGS Water Study

6. Old Business

Advisory Committee Handbook

7. New Business

8. Agenda and date for next meeting

9. Public comment

10. Adjournment

The meeting is open to the public. It is expected that 15 persons will be able to attend the meeting in addition to Commission members. Interested persons may make oral/written presentations to the Commission during the business meeting or file written statements. Such requests should be made to the park superintendent at least seven days prior to the meeting. Further information concerning the meeting may be obtained from the Superintendent, Cape Cod National Seashore, 99 Marconi Site Road, Wellfleet, MA 02667.

Dated: May 8, 1999.
Maria Burks,
Deputy Superintendent.

[FR Doc. 00-12317 Filed 5-18-00; 8:45 am]

BILLING CODE 4310-70-M